DEPARTMENT OF EDUCATION

Student Assistance General Provisions, Federal Perkins Loan, Federal Work-Study, Federal Supplemental Educational Opportunity Grant, Federal Family Education Loan, William D. Ford Federal Direct Loan, Federal Pell Grant, and Leveraging Educational Assistance Partnership Programs

AGENCY: Department of Education.

ACTION: Notice extending institutional and applicant filing and reporting deadlines.

SUMMARY: The Secretary announces the extension of the deadline dates for specific filing and reporting activities, including those published in the Federal Register on March 10, 2004 (69 FR 11403) and March 15, 2004 (69 FR 12136). The Secretary takes this action as a result of the damage and disruptions caused by the recent hurricanes and tropical storms in the southern and eastern parts of the United States, including Puerto Rico. The new dates or requested extensions apply only to (1) institutions or third-party servicers that are located in a federally-declared disaster area and that were adversely affected by these severe weather conditions, and (2) applicants that are adversely affected by these severe weather conditions.

SUPPLEMENTARY INFORMATION: On September 21, 2004 the Department published a “Dear Partner Letter” announcing the intention of the Secretary to extend certain deadline dates. That letter is available at: http://ifap.ed.gov/dpcletters/GEN0409.html.

In this notice, the Secretary officially establishes these new deadlines, as set forth below.

Activities Related to Institutional Reporting

FISAP Filing Deadline: For an affected institution or third-party servicer that is unable to meet the previously published deadline of October 1, 2004, the Secretary announces the extension to October 30, 2004 of the date by which the institution's FISAP (Fiscal Operations Report for 2003-2004 and Application to Participate for 2005-2006) must be submitted. If the institution or servicer is unable to meet this extended deadline, it must contact the Campus-Based Call Center at 1-877-801-7168. An institution or servicer that submits a FISAP after October 1, 2004 must maintain documentation of the hurricane-related reason why it did so.

2003-2004 Federal Pell Grant Reporting Deadline: For an affected institution or third-party servicer that is unable to meet the previously published deadline of September 30, 2004, the Secretary grants administrative relief and announces the extension to October 22, 2004 of the date by which the institution or servicer must report Federal Pell Grant payments (and adjustments) for the 2003-2004 award year to the Common Origination and Disbursement (COD) System. An institution or servicer that submits Pell Grant payment information for the 2003-2004 award year after September 30, 2004 must maintain documentation of the hurricane-related reason why it did so.

Submission of Federal Pell Grant Disbursement Records: The Secretary announces the extension to 60 days (instead of the normal 30 days) of the time within which an affected institution or third-party servicer must submit a Federal Pell Grant disbursement record to the COD System. If the institution or servicer finds that it cannot submit the record within this 60-day period, it must contact the COD School Relations Center at 1-800-4PGRANT (1-800-474-7268). An affected institution or servicer that does not submit Pell Grant payment information within the current 30-day timeframe must maintain documentation of the hurricane-related reason why it did so.

Submission of Federal Direct Loan Records: The Secretary will not enforce the current 30-day submission requirement against an affected institution or third-party servicer that is unable to submit Direct Loan promissory notes, loan origination records, and disbursement records (including adjustments) to the COD System. Instead, the institution or servicer has 60 days to submit these records. If an institution or servicer finds that it cannot submit these records within this 60-day period, it must contact the COD School Relations Center at 1-800-848-0978. An affected institution or servicer that does not submit Direct Loan information within the current 30-day timeframe must maintain documentation of the hurricane-related reason why it did so.

Activities Related to Applicant Filing

FAFSA Correction Deadline: For an affected applicant, the Secretary announces the extension from September 17, 2004 to October 8, 2004 of the date by which the Department's Central Processing System must have received the following items:

• Paper corrections (including address changes and changes of institutions) made using a SAR;

• Electronic corrections (including address changes and changes of institutions) made from FAFSA on the Web, FAA Access to CPS Online, or EDExpress;

• Changes to mailing or e-mail addresses, changes of institutions, and requests for a duplicate SAR made by phone to the Federal Student Aid Information Center; and

• Paper signature pages and electronic signatures.

Activities Related to Documents Received by an Institution

Receipt of SARs and ISIRs: For an affected applicant, institution, or third-party servicer, the Secretary announces the extension from September 17, 2004 to October 8, 2004 of the date by which the institution or servicer must have received a SAR from a student, or an ISIR from the Department, for the student to be considered for a Federal Pell Grant for the 2003-2004 award year. An institution or servicer that pays Federal Student Aid on a SAR or ISIR that was received after September 17, 2004 must maintain documentation of the hurricane-related reason why the SAR or ISIR was not received by that date.

Receipt of Verification Documents: The Secretary announces the extension from September 17, 2004 to October 8, 2004 of the date by which an institution or third-party servicer must have received all requested verification documents to consider an applicant for Federal Student Aid for the 2003-2004 award year. An institution or servicer that pays Federal Student Aid based on verification documents received after September 17, 2004 must maintain documentation of the hurricane-related reason why those documents were not received by that date.

FOR FURTHER INFORMATION CONTACT: For general questions, John Kolotos, U.S. Department of Education, 400 Maryland Avenue, SW., (UCP room 113F1), Washington, DC 20202. Telephone: (202) 377-4027, FAX: (202) 275-4552, or by email: john.kolotos@ed.gov.

For other questions or requests for extensions, contact the appropriate call center as previously noted or the Customer Service Call Center at 1-800-433-7327.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1070a, 1070b-1070b-4, 1070c-1070c-4, 1071-1087-2, 1087a-1087j, 1087aa-1087ii, 1094, and 1099c; 42 U.S.C. 2751-2756b. Catalog of Federal Domestic Assistance numbers: 84.007 Federal Supplemental Educational Opportunity Grant (FSEOG) Program; 84.032 Federal Family Education Loan (FFEL) Programs; 84.033 Federal Work-Study (FWS) Program; 84.038 Federal Perkins (Perkins) Loans; 84.063 Federal Pell Grant (Pell) Program; 84.069 Leveraging Educational Assistance Partnership (LEAP) Programs; and 84.268 William D. Ford Federal Direct Loan (Direct Loan) Programs.

Dated: October 12, 2004.
Theresa S. Shaw,
Chief Operating Officer, Federal Student Aid.

[FR Doc. 04-23183 Filed 10-14-04; 8:45 am]

BILLING CODE 4000-01-P